DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from August 3, to August 7, 2009.

For further information, please contact Edson Beall via: United States Postal Service mail, at the National Register of Historic Places, 2280, National Park Service, 1849 C St. NW., Washington, DC 20240; in person (by appointment), 1201 Eye St. NW., 8th floor, Washington, DC 20005; by fax, 202-371-2229; by phone, 202-354-2255; or by e-mail, Edson_Beall@nps.gov.

Dated: September 29, 2009.
J. Paul Loether,
Chief, National Register of Historic Places/National Historic Landmarks Program.

KEY: State, County, Property Name, Address/Boundary, City, Vicinity, Reference Number, Action, Date, Multiple Name.

ARIZONA

Cochise County

Schilling Ranch Historic District, 6396 N. Schilling Ranch Rd., Corral vicinity, 09000608, LISTED, 8/07/09 (Cattle Ranching in Arizona in the Modern Era, 1945-1970)

Maricopa County

Roald Amundsen Pullman Private Railroad Car, 7301 Indian Bend Rd., Scottsdale, 09000582, LISTED, 8/06/09

Pima County

Barrio El Membrillo Historic District, Bounded by W. Granada St. on the N., W. Simpson St. on the S., the right-of-way of the former EP&SW Railroad on the E., Tucson, 09000583, LISTED, 8/05/09

COLORADO

Jefferson County

Rockland Community Church and Cemetery, 24225 Rockland Rd., Golden, 09000584, LISTED, 8/05/09

GEORGIA

Gwinnett County

Buford Public School Auditorium, 4975 Little Mill Rd., Buford, 09000586, LISTED, 8/05/09

ILLINOIS

Champaign County

Alpha Gamma Delta Fraternity House, 1106 S. Lincoln Ave., Urbana, 09000589, LISTED, 8/05/09

(Fraternity and Sorority Houses at the Urbana—Champaign Campus of the University of Illinois MPS).

KANSAS

Crawford County

State Bank of Girard, 105 E. Prairie, Girard, 09000349, LISTED, 8/07/09

MAINE

Androscoggin County

Turner Cattle Pound, SW corner of Gen. Turner Hill Rd. and Kennebec Trail, Turner, 09000592, LISTED, 8/07/09

Hancock County

Bass Harbor Memorial Library,

89 Bernard Rd., Tremont, 09000593, LISTED, 8/05/09

Hancock County

Sea Change, 27 Corning Way, Northeast Harbor, 08000991, LISTED, 8/07/09

Sagadahoc County

Fiddler's Reach Fog Signal, N. shore of Kennebec River, E. of Doubling Point Light Station, Arrowsic, 09000594, LISTED, 8/05/09

Waldo County

(Former) Maine Central Railroad Depot ME Rt. 7, Brooks, 09000595, LISTED, 8/05/09

MISSOURI

Buchanan County

Museum Hill Historic District (Boundary Increase), 321 and 323 N. 15th and 1510 Faraon St., St. Joseph, 09000598, LISTED, 8/05/09

(St. Joseph, Buchanan County, Missouri MPS AD).

MISSOURI

Cooper County

Blackwater Residential Historic District, Parts of the 300-400 block of Trigg Ave., 300 block of Scott Ave. and the 300 block of Main St., Blackwater, 09000597, LISTED, 8/05/09

Franklin County

Keller, Christian and Anna, Farmstead, 936 Kohl Country La., Gerald vicinity, 08000867, LISTED, 8/06/09

St. Louis Independent City

Forest Park Southeast Historic District (Boundary Increase III), 4100-4162 Manchester (even) 4151-4201 Manchester (odd) & 4216 Gibson, St. Louis, 09000596, LISTED, 8/05/09

NORTH CAROLINA

Alamance County

Beverly Hills Historic District, Portion of 14 blocks on N. Main St., Rolling Rd., Highland Ave., Virginia Ave., N. Ireland St., N. St. John St., Burlington, 09000599, LISTED, 8/05/09 (Burlington MRA)

Catawba County

Frye, Dr. Glenn R., House, 539 N. Center St., NE, Hickory, 09000600, LISTED, 8/05/09

Durham County

Russell School, 2001 St. Mary's Rd. (S. side SR 1002 .1 mi. W of jct with SR 1003), Durham vicinity, 09000601, LISTED, 8/05/09

Forsyth County

Winston-Salem Tobacco Historic District, Bounded by Chestnut St. on the W., 5th and 7th Sts. on the N., Linden St. on the E., and 4th and Fogle Sts. on the S., Winston-Salem, 09000602, LISTED, 8/05/09

TENNESSEE

Hardin County

Savannah Historic District (Boundary Increase), Roughly bounded by College St., Main St., Tennessee St., and Williams St., Savannah, 09000534, LISTED, 8/07/09

[FR Doc. E9-24426 Filed 10-8-09; 8:45 am]

BILLING CODE P